DEPARTMENT OF THE INTERIOR

Fish and Wildlife Service

Notice of Decision and Availability of the Record of Decision for the Final Comprehensive Conservation Plan and Final Environmental Impact Statement for Maine Coastal Islands National Wildlife Refuge

AGENCY: Fish and Wildlife Service, Interior.

ACTION: Notice of Decision and Availability of the Record of Decision for the Final Comprehensive Conservation Plan and Final Environmental Impact Statement for the Maine Coastal Islands National Wildlife Refuge, formerly known as Petit Manan National Wildlife Refuge Complex.

SUMMARY: The U.S. Fish and Wildlife Service (Service) announces a Notice of Decision and Availability of the Record of Decision (ROD) for Maine Coastal Islands National Wildlife Refuge (NWR) Final Comprehensive Conservation Plan (CCP) and Final Environmental Impact Statement (EIS). The refuge is located in the Gulf of Maine watershed, which extends along the entire coast of Maine. The Final EIS presents a thorough analysis of environmental, social, and economic considerations. The CCP and EIS were released to the public for 30 days after the publication of a Notice of Availability in the Federal Register on July 15, 2005 (70 FR 135). The ROD documents the selection of Alternative B (the Service-preferred alternative) in the Final EIS, which is represented by the Final CCP for the refuge. The ROD was signed by the Regional Director, U.S. Fish and Wildlife Service, Northeast Region, on August 24, 2005.

ADDRESSES: A copy of the ROD may be obtained from Charles Blair, Refuge Manager, Maine Coastal Islands National Wildlife Refuge, P.O. Box 279, Water Street, Milbridge, Maine 04658-0279, or you may call Mr. Blair at 207-546-2124. A copy of the final CCP and EIS is available at the following Web site: http://library.fws.gov/ccps.htm.

FOR FURTHER CONTACT INFORMATION: Charles Blair, Refuge Manager, Maine Coastal Islands National Wildlife Refuge, P.O. Box 279, Water Street, Milbridge, Maine 04658-0279, 207-546-2124 (telephone), 207-546-7805 (FAX).

SUPPLEMENTARY INFORMATION: The following is a summary of the ROD, which selects Final EIS Alternative B, represented by the Final CCP, for the Maine Coastal Islands NWR. The CCP provides management guidance that conserves refuge resources and facilitates compatible wildlife-dependent public use activities during the next 15 years.

The CCP addresses key issues and conflicts identified during the planning process, and will best achieve the purposes and goals for each of the five refuges in this complex, as well as the mission of the National Wildlife Refuge System (NWRS). The decision includes the management goals, objectives, and strategies identified in CCP chapter 4, “Management Direction,” and in the compatibility determinations (Appendix C). The implementation of the CCP will occur over the next 15 years, depending on future staffing levels, funding, and willing sellers of the lands proposed for acquisition.

Factors Considered in Making the Decision:

The decision was based on a thorough analysis of environmental, social, and economic considerations. The Service reviewed and considered the impacts identified in chapter 4 of the Draft and Final EIS; the results of various studies and surveys conducted, or technical expert advice received in conjunction with the Draft and Final EIS and CCP; relevant issues, concerns, and opportunities; comments on the draft and final planning documents; and other relevant factors, including the purposes for which the refuges were established and statutory and regulatory guidance. The Final EIS and CCP address a variety of needs, including fish and wildlife conservation, habitat restoration and protection, National Wilderness Preservation System designation, refuge expansion, and the six priority public uses of the National Wildlife Refuge System Improvement Act of 1997. The unique combination of those components contributes significantly to achieving refuge purposes and goals. The CCP also strengthens the monitoring of fish, wildlife, habitat, and public uses on refuge lands to provide the means to better respond to changing conditions in the surrounding landscape.

The Final CCP, was selected for implementation because it provides the greatest number of opportunities for the NWRS to contribute to fish, wildlife, and habitat conservation needs along the Maine coast.

Dated: August 24, 2005.
Richard O. Bennett,
Acting Regional Director, U.S. Fish and Wildlife Service, Hadley, Massachusetts.

[FR Doc. 05-18787 Filed 9-20-05; 8:45 am]

BILLING CODE 4310-55-P